DEPARTMENT OF LABOR

Employment And Training Administration

[TA-W-53,481]

Springs Industires, Inc., Including Leased Workers Of Phillips Staffing, Including Contract Workers Of Johnson Controls, Inc., Springfield Plant, Laurel Hill, North Carolina; Amended Certification Regarding Eligibility To Apply for Worker Adjustment Assistance

In accordance with section 223 of the Trade Act of 1974 (19 U.S.C. 2273) the Department of Labor issued a Certification of Eligibility to Apply for Worker Adjustment Assistance on November 24, 2003, applicable to workers of Springs Industries, Inc., including leased workers of Phillips Staffing, Springfield Plant, Laurel Hill, North Carolina. The notice was published in the Federal Register on December 29, 2003 (68 FR 74978).

At the request of the petitioners, the Department reviewed the certification for workers of the subject firm. New information shows that contract workers of Johnson Controls, Inc., were engaged in activities related to the production of unfinished fabrics at Springs Industries, Inc., Springfield Plant at the Laurel Hill, North Carolina location of the subject firm.

Based on these findings, the Department is amending this certification to include contract workers of Johnson Controls working at Springs Industries, Inc., Springfield Plant, Laurel Hill, North Carolina.

The intent of the Department's certification is to include all workers of Springs Industries, Inc., Springfield Plant, who were adversely affected by increased imports of unfinished fabrics.

The amended notice applicable to TA-W-53,481 is hereby issued as follows:

All workers of Springs Industries, Inc., leased workers of Phillips Staffing, Springfield Plant, and contract workers of Johnson Controls, Inc. working at Springs Industries, Inc., Springfield Plant, Laurel Hill, North Carolina, who became totally or partially separated from employment on or after October 31, 2002, through November 24, 2005, are eligible to apply for adjustment assistance under section 223 of the Trade Act of 1974.

Signed in Washington, DC this 20th day of February, 2004.
Linda G. Poole,
Certifying Officer, Division of Trade Adjustment Assistance.

[FR Doc. E4-466 Filed 3-5-04; 8:45 am]

BILLING CODE 4510-13-P